DEPARTMENT OF COMMERCE

International Trade Administration

[A-351-810, A-475-816, A-588-835, A-580-825]

Oil Country Tubular Goods From Argentina, Italy, Japan, and Korea; Final Results of Five-Year (“Sunset”) Reviews of Antidumping Duty Orders

AGENCY: Import Administration, International Trade Administration, Department of Commerce.

SUMMARY: On June 1, 2006, the Department of Commerce (“the Department”) initiated the second sunset reviews of the antidumping duty (“AD”) orders on oil country tubular goods (“OCTG”) from Argentina, Italy, Japan, and Korea pursuant to section 751(c) of the Tariff Act of 1930, as amended (“the Act”). On the basis of notices of intent to participate, and adequate substantive responses filed on behalf of the domestic interested parties, and inadequate responses received from respondent interested parties, the Department has conducted expedited sunset reviews, pursuant to section 751(c)(3)(B) of the Act and 19 CFR 351.218(e)(1)(ii)(C)(2). As a result of these sunset reviews, the Department finds that revocation of the AD orders would be likely to lead to continuation or recurrence of dumping at the margins indicated in the “Final Results of Review” section of this notice.

DATES: Effective Date: October 6, 2006.

FOR FURTHER INFORMATION CONTACT: Martha Douthit, Fred Baker, or Dana Mermelstein, AD/CVD Operations, Office 6-7, Import Administration, International Trade Administration, U.S. Department of Commerce, 14th Street & Constitution Avenue, NW., Washington, DC 20230; telephone: (202) 482-5050, (202) 482-2924, or (202) 482-1391, respectively.

SUPPLEMENTARY INFORMATION:

Background

On June 1, 2006, the Department initiated sunset reviews of the AD orders on OCTG from Argentina, Italy, Japan, and Korea pursuant to section 751(c) of the Act. See Initiation of Five-Year (“Sunset”) Reviews, 71 FR 31153 (June 1, 2006). The Department received notices of intent to participate from IPSCO Tubulars, Inc., Lone Star Steel Company, Koppel Steel (“NS Group”), Maverick Tube Corporation, Newport Steel Company (“NS Group”), V&M Star LP, and United States Steel Corporation (“U.S. Steel”) (collectively “domestic interested parties”), within the deadline specified in 19 CFR 351.218(d)(1)(i).¹ The domestic interested parties claimed interested party status under section 771(9)(C) of the Act as U.S. producers, manufacturers, and wholesalers of the domestic like product. We received complete substantive responses from the domestic interested parties in all four cases within the deadline specified in 19 CFR 351.218(d)(3)(i). We received a inadequate response from respondent interested parties of the AD order from Argentina, and no responses from respondent interested parties with respect to the AD orders from Italy, Japan, and Korea. As a result, pursuant to section 751(c)(3)(B) of the Act and 19 CFR. 351.218(e)(1)(ii)(C)(2), the Department has conducted expedited reviews of these AD orders.

¹

U.S. Steel and USS/Kobe Steel were petitioners in the investigation. U.S. Steel notes that Lorain Tubular Company LLC became the successor-in-interest to USS/Kobe Steel in August 1999. In December 1999, U.S. Steel took ownership of 100 % of the equity of Lorain Tubular, making U.S. Steel the owner of Lorain Tubular.

Scope of the Orders

Argentina, Italy, Japan, Korea

The products covered by these orders consists of oil country tubular goods, hollow steel products of circular cross-section, including only oil well casing and tubing, of iron (other than cast iron) or steel (both carbon and alloy), whether seamless or welded, whether or not conforming to American Petroleum Institute (API) or non-API specifications, whether finished or unfinished (including green tubes and limited service OCTG products). The scope does not cover casing or tubing pipe containing 10.5 percent or more of chromium, or drill pipe. The products subject to this review are currently classified in the following Harmonized Tariff Schedule of the United States (“HTSUS”) subheadings: 7304.20.10.10, 7304.20.10.20, 7304.20.10.30, 7304.20.10.40, 7304.20.10.50, 7304.20.10.60, 7304.20.10.80, 7304.20.20.10, 7304.20.20.20, 7304.20.20.30, 7304.20.20.40, 7304.20.20.50, 7304.20.20.60, 7304.20.20.80, 7304.20.30.10, 7304.20.30.20, 7304.20.30.30, 7304.20.30.40, 7304.20.30.50, 7304.20.30.60, 7304.20.30.80, 7304.20.40.10, 7304.20.40.20, 7304.20.40.30, 7304.20.40.40, 7304.20.40.50, 7304.20.40.60, 7304.20.40.80, 7304.20.50.15, 7304.20.50.30, 7304.20.50.45, 7304.20.50.60, 7304.20.50.75, 7304.20.60.15, 7304.20.60.30, 7304.20.60.45, 7304.20.60.60, 7304.20.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

Although the HTSUS subheadings are provided for convenience and customs purposes, our written description of the scope of these orders is dispositive.

Analysis of Comments Received

All issues raised in these reviews are addressed in the Issues and Decision Memorandum (“Decision Memorandum”) from Stephen J. Claeys, Deputy Assistant Secretary for Import Administration, to David M. Spooner, Assistant Secretary for Import Administration, dated September 29, 2006, which is hereby adopted by this notice. Parties can find a complete discussion of all issues raised in these reviews and the corresponding recommendations in this public memorandum which is on file in the Central Records Unit room, B-099 of the main Commerce building. In addition, a complete version of the Decision Memorandum can be accessed directly on the Web at http://ia.ita.doc.gov/frn, under the heading October 2006. The paper copy and electronic version of the Decision Memorandum are identical in content.

Final Results of Review

The Department determines that revocation of the AD orders on OCTG from Argentina, Italy, Japan, and Korea would be likely to lead to continuation or recurrence of dumping at the following weighted-average percentage margins:

Manufacturers/exporters/producers | Weighted-average margin (percent)
Argentina
Siderca S.A.I.C | 1.36
Acindar Industria Argentina de Aceros S.A | 60.73
All Others | 1.36
Italy
Dalmine S.p.A | 49.78
Acciaierie Tubificio Arvedi S.p.A | 49.78
General Sider Europa S.p.A | 49.78
All Others | 49.78
Japan
Nippon Steel Corporation | 44.20
Sumitomo Metal Industries, Ltd | 44.20
All Others | 44.20
Korea
Union Steel Manufacturing Company | 12.17
All Others | 12.17
Hyundai Steel Pipe Company, Ltd., succeeded by Hyundai Hysco, was excluded from the order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing the results and notice in accordance with sections 751(c), 752, and 777(i)(1) of the Act.

Dated: September 29, 2006.
Stephen J. Claeys,
Acting Assistant Secretary for Import Administration.

[FR Doc. E6-16607 Filed 10-5-06; 8:45 am]

BILLING CODE 3510-DS-P